DEPARTMENT OF COMMERCE

National Oceanic and Atmospheric Administration

[I.D. 011106H]

Endangered Species; File No. 1544

AGENCY: National Marine Fisheries Service (NMFS), National Oceanic and Atmospheric Administration (NOAA), Commerce.

ACTION: Notice; issuance of permit.

SUMMARY: Notice is hereby given that Patricia Bargo, East Coast Observers, Inc., P.O. Box 6192, Norfolk, Virginia 23508 has been issued a permit to take loggerhead (Caretta caretta), green (Chelonia mydas), hawksbill (Eretmochelys imbricata), Kemp's ridley (Lepidochelys kempii), and leatherback (Dermochelys coriacea) sea turtles, and shortnose sturgeon (Acipenser brevirostrum).

ADDRESSES: The permit and related documents are available for review upon written request or by appointment in the following office(s):

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9200; fax (978)281-9371;

Southeast Region, NMFS, 263 13th Ave South, St. Petersburg, FL 33701; phone (727)824-5312; fax (727)824-5309.

FOR FURTHER INFORMATION CONTACT: Patrick Opay or Amy Hapeman, (301)713-2289.

SUPPLEMENTARY INFORMATION: On August 26, 2005, notice was published in the Federal Register (70 FR 50302) that a request for a scientific research permit to take loggerhead, green, Kemp's ridley, hawksbill, and leatherback sea turtles and shortnose sturgeon had been submitted by the above-named individual. The requested permit has been issued under the authority of the Endangered Species Act of 1973, as amended (ESA; 16 U.S.C. 1531 et seq.) and the regulations governing the taking, importing, and exporting of endangered and threatened species (50 CFR parts 222-226).

East Coast Observers, Inc. will conduct sea turtle abundance and relocation trawls in conjunction with U.S. Army Corps of Engineers (Corps) dredging projects in waters of the Atlantic coast. Up to 350 loggerhead, 150 green, 150 Kemp's ridley, 10 hawksbill, and 10 leatherback sea turtles, and 10 shortnose sturgeon will be captured. Collected sea turtles will be handled, measured, flipper and passive integrated transponder (PIT) tagged, temporarily marked with a non-toxic marker, and released at a relocation site approximately three to five miles away from the dredge project. A single tissue sample may be taken from each individual turtle for genetic analysis. Collected shortnose sturgeon will be captured, handled have a barbel clip taken, and relocated to a safe area. The permit authorizes a total of up to 5 sea turtle (loggerhead, green, Kemp's ridley, and hawksbill in combination) incidental mortalities over the course of the permit. The permit is issued for five years.

Issuance of this permit, as required by the ESA, was based on a finding that such permit (1) was applied for in good faith, (2) will not operate to the disadvantage of any endangered or threatened species, and (3) is consistent with the purposes and policies set forth in section 2 of the ESA.

Dated: February 6, 2006.
Stephen L. Leathery,
Chief, Permits, Conservation and Education Division, Office of Protected Resources, National Marine Fisheries Service.

[FR Doc. E6-1889 Filed 2-9-06; 8:45 am]

BILLING CODE 3510-22-S